DEPARTMENT OF ENERGY

Federal Energy Regulatory Commission

Combined Notice of Filings

Take notice that the Commission has received the following Natural Gas Pipeline Rate and Refund Report filings:

Filings Instituting Proceedings

Docket Numbers: RP19-390-000.

Applicants: Kinder Morgan Louisiana Pipeline LLC.

Description: eTariff filing per 1430: FERC Form No. 501-G to be effective N/A.

Filed Date: 12/6/18.

Accession Number: 20181206-5122.

Comments Due: 5 p.m. ET 12/18./18.

Docket Numbers: RP19-392-000.

Applicants: Midcontinent Express Pipeline LLC.

Description: eTariff filing per 1430: FERC Form No. 501-G Report to be effective N/A.

Filed Date: 12/6/18.

Accession Number: 20181206-5135.

Comments Due: 5 p.m. ET 12/18./18.

Docket Numbers: RP19-393-000.

Applicants: Kinder Morgan Illinois Pipeline LLC.

Description: eTariff filing per 1430: FERC Form No. 501-G to be effective N/A.

Filed Date: 12/6/18.

Accession Number: 20181206-5137.

Comments Due: 5 p.m. ET 12/18./18.

Docket Numbers: RP19-394-000.

Applicants: Sea Robin Pipeline Company, LLC.

Description: eTariff filing per 1430: FERC Form No. 501-G Report to be effective N/A.

Filed Date: 12/6/18.

Accession Number: 20181206-5156.

Comments Due: 5 p.m. ET 12/18./18.

Docket Numbers: RP19-395-000.

Applicants: Natural Gas Pipeline Company of America.

Description: eTariff filing per 1430: FERC Form No. 501-G to be effective N/A.

Filed Date: 12/6/18.

Accession Number: 20181206-5157.

Comments Due: 5 p.m. ET 12/18./18.

Docket Numbers: RP19-396-000.

Applicants: MarkWest Pioneer, L.L.C.

Description: eTariff filing per 1430: FERC Form No. 501-G Filing to be effective N/A.

Filed Date: 12/6/18.

Accession Number: 20181206-5162.

Comments Due: 5 p.m. ET 12/18./18.

Docket Numbers: RP19-397-000.

Applicants: DBM Pipeline, LLC.

Description: eTariff filing per 1430: Form 501-G Filing to be effective N/A.

Filed Date: 12/6/18.

Accession Number: 20181206-5167.

Comments Due: 5 p.m. ET 12/18./18.

Docket Numbers: RP19-398-000.

Applicants: El Paso Natural Gas Company, L.L.C.

Description: § 4(d) Rate Filing: Negotiated Rate Agreement Update (TRMC Redesignation) to be effective 12/7/2018.

Filed Date: 12/6/18.

Accession Number: 20181206-5168.

Comments Due: 5 p.m. ET 12/18./18.

Docket Numbers: RP19-399-000.

Applicants: Great Lakes Gas Transmission Limited Par.

Description: eTariff filing per 1430: GLGT Form 501-G Report to be effective N/A.

Filed Date: 12/6/18.

Accession Number: 20181206-5174.

Comments Due: 5 p.m. ET 12/18./18.

Docket Numbers: RP19-400-000.

Applicants: Nautilus Pipeline Company, L.L.C.

Description: eTariff filing per 1430: Nautilus FERC Form 501-G to be effective N/A.

Filed Date: 12/6/18.

Accession Number: 20181206-5176.

Comments Due: 5 p.m. ET 12/18./18.

Docket Numbers: RP19-401-000.

Applicants: Nautilus Pipeline Company, L.L.C.

Description: eTariff filing per 1440: Nautilus Limited Section 4 Filing to be effective 2/1/2019.

Filed Date: 12/6/18.

Accession Number: 20181206-5177.

Comments Due: 5 p.m. ET 12/18./18.

Docket Numbers: RP19-402-000.

Applicants: Florida Gas Transmission Company, LLC.

Description: eTariff filing per 1430: FERC Form No. 501-G Report to be effective N/A.

Filed Date: 12/6/18.

Accession Number: 20181206-5180.

Comments Due: 5 p.m. ET 12/18./18.

Docket Numbers: RP19-403-000.

Applicants: ANR Pipeline Company.

Description: eTariff filing per 1430: ANR Form No. 501-G Report to be effective N/A.

Filed Date: 12/6/18.

Accession Number: 20181206-5181.

Comments Due: 5 p.m. ET 12/18./18.

Docket Numbers: RP19-403-000.

Applicants: ANR Pipeline Company.

Description: (doc-less) Motion to Intervene of Koch Energy Services, LLC. under RP19-403, et al.

Filed Date: 12/6/18.

Accession Number: 20181206-5292.

Comments Due: 5 p.m. ET 12/18./18.

Docket Numbers: RP19-404-000.

Applicants: Mojave Pipeline Company, L.L.C.

Description: eTariff filing per 1430: Mojave Form 501-G Filing to be effective N/A.

Filed Date: 12/6/18.

Accession Number: 20181206-5182.

Comments Due: 5 p.m. ET 12/18./18.

Docket Numbers: RP19-405-000.

Applicants: ANR Storage Company.

Description: eTariff filing per 1430: ANR Storage Form No. 501-G Report to be effective N/A.

Filed Date: 12/6/18.

Accession Number: 20181206-5187.

Comments Due: 5 p.m. ET 12/18./18.

Docket Numbers: RP19-405-000.

Applicants: ANR Storage Company

Description: (doc-less) Motion to Intervene of Koch Energy Services, LLC. under RP19-403, et al.

Filed Date: 12/6/18.

Accession Number: 20181206-5292.

Comments Due: 5 p.m. ET 12/18./18.

Docket Numbers: RP19-406-000.

Applicants: Columbia Gas Transmission, LLC.

Description: eTariff filing per 1430: Columbia Form No. 501-G Report to be effective N/A.

Filed Date: 12/6/18.

Accession Number: 20181206-5189.

Comments Due: 5 p.m. ET 12/18./18.

Docket Numbers: RP19-407-000.

Applicants: Transwestern Pipeline Company, LLC.

Description: eTariff filing per 1430: FERC Form No. 501-G Report to be effective N/A.

Filed Date: 12/6/18.

Accession Number: 20181206-5190.

Comments Due: 5 p.m. ET 12/18./18.

Docket Numbers: RP19-408-000.

Applicants: Columbia Gulf Transmission, LLC.

Description: eTariff filing per 1430: Columbia Gulf Form No. 501-G Report to be effective N/A.

Filed Date: 12/6/18.

Accession Number: 20181206-5191.

Comments Due: 5 p.m. ET 12/18./18.

Docket Numbers: RP19-409-000.

Applicants: Great Lakes Gas Transmission Limited Par.

Description: eTariff filing per 1440: GLGT 501-G Limited Section 4 to be effective 2/1/2019.

Filed Date: 12/6/18.

Accession Number: 20181206-5192.

Comments Due: 5 p.m. ET 12/18/18.

Docket Numbers: RP19-410-000.

Applicants: Crossroads Pipeline Company.

Description: eTariff filing per 1430: Crossroads Form No. 501-G Report to be effective N/A.

Filed Date: 12/6/18.

Accession Number: 20181206-5193.

Comments Due: 5 p.m. ET 12/18/18.

Docket Numbers: RP19-411-000.

Applicants: Northern Border Pipeline Company.

Description: eTariff filing per 1430: Northern Border 501-G Filing to be effective N/A.

Filed Date: 12/6/18.

Accession Number: 20181206-5194.

Comments Due: 5 p.m. ET 12/18/18.

Docket Numbers: RP19-412-000.

Applicants: Rockies Express Pipeline LLC.

Description: eTariff filing per 1430: REX Form No. 501-G Report to be effective N/A.

Filed Date: 12/6/18.

Accession Number: 20181206-5195.

Comments Due: 5 p.m. ET 12/18/18.

Docket Numbers: RP19-413-000.

Applicants: Colorado Interstate Gas Company, L.L.C.

Description: eTariff filing per 1430: Colorado Interstate Gas Form 501-G Filing to be effective N/A.

Filed Date: 12/6/18.

Accession Number: 20181206-5196.

Comments Due: 5 p.m. ET 12/18/18.

Docket Numbers: RP19-414-000.

Applicants: Northern Border Pipeline Company.

Description: eTariff filing per 1440: NBPL 501-G Limited Section 4 to be effective 2/1/2019.

Filed Date: 12/6/18.

Accession Number: 20181206-5197.

Comments Due: 5 p.m. ET 12/18/18.

Docket Numbers: RP19-415-000.

Applicants: Cimarron River Pipeline, LLC.

Description: eTariff filing per 1430: Form 501-G to be effective N/A.

Filed Date: 12/6/18.

Accession Number: 20181206-5198.

Comments Due: 5 p.m. ET 12/18/18.

Docket Numbers: RP19-416-000.

Applicants: Tuscarora Gas Transmission Company.

Description: eTariff filing per 1430: Tuscarora 501-G Filing to be effective N/A.

Filed Date: 12/6/18.

Accession Number: 20181206-5201.

Comments Due: 5 p.m. ET 12/18/18.

Docket Numbers: RP19-417-000.

Applicants: Cheniere Creole Trail Pipeline, L.P.

Description: eTariff filing per 1430: Cheniere Creole Trail Pipeline, LP FERC Form 501-G to be effective N/A.

Filed Date: 12/6/18.

Accession Number: 20181206-5209.

Comments Due: 5 p.m. ET 12/18/18.

Docket Numbers: RP19-418-000.

Applicants: NGO Transmission, Inc.

Description: eTariff filing per 1430: FERC Form No. 501-G Filing to be effective N/A.

Filed Date: 12/6/18.

Accession Number: 20181206-5231.

Comments Due: 5 p.m. ET 12/18/18.

Docket Numbers: RP19-419-000.

Applicants: Tuscarora Gas Transmission Company.

Description: eTariff filing per 1440: Tuscarora 501-G Lim Section 4 to be effective 2/1/2019.

Filed Date: 12/6/18.

Accession Number: 20181206-5221.

Comments Due: 5 p.m. ET 12/18/18.

Docket Numbers: RP19-420-000.

Applicants: Wyoming Interstate Company, L.L.C.

Description: eTariff filing per 1430: Wyoming Interstate Form 501-G Filing to be effective N/A.

Filed Date: 12/6/18.

Accession Number: 20181206-5224.

Comments Due: 5 p.m. ET 12/18/18.

Docket Numbers: RP19-421-000.

Applicants: National Grid LNG, LLC.

Description: eTariff filing per 1430: Form No. 501-G Informational Filing to be effective N/A.

Filed Date: 12/6/18.

Accession Number: 20181206-5225.

Comments Due: 5 p.m. ET 12/18/18.

Docket Numbers: RP19-422-000.

Applicants: Rover Pipeline LLC.

Description: eTariff filing per 1430: FERC Form No. 501-G Report to be effective N/A.

Filed Date: 12/6/18.

Accession Number: 20181206-5226.

Comments Due: 5 p.m. ET 12/18/18.

Docket Numbers: RP19-423-000.

Applicants: Tallgrass Interstate Gas Transmission, L.

Description: eTariff filing per 1430: TIGT Form No. 501-G Report to be effective N/A.

Filed Date: 12/6/18.

Accession Number: 20181206-5227.

Comments Due: 5 p.m. ET 12/18/18.

Docket Numbers: RP19-424-000.

Applicants: Pine Needle LNG Company, LLC.

Description: eTariff filing per 1430: Pine Needle Form No. 501-G Report to be effective N/A.

Filed Date: 12/6/18.

Accession Number: 20181206-5228.

Comments Due: 5 p.m. ET 12/18/18.

Docket Numbers: RP19-425-000.

Applicants: Sierrita Gas Pipeline LLC.

Description: eTariff filing per 1430: Sierrita Form 501-G Filing to be effective N/A.

Filed Date: 12/6/18.

Accession Number: 20181206-5235.

Comments Due: 5 p.m. ET 12/18/18.

Docket Numbers: RP19-426-000.

Applicants: TransColorado Gas Transmission Company L.

Description: eTariff filing per 1430: TransColorado Form 501-G Filing to be effective N/A.

Filed Date: 12/6/18.

Accession Number: 20181206-5236.

Comments Due: 5 p.m. ET 12/18/18.

Docket Numbers: RP19-427-000.

Applicants: Honeoye Storage Corporation.

Description: Compliance filing Honeoye Storage Corp Resubmission of Approval of Stipulation and Agreement to be effective N/A.

Filed Date: 12/6/18.

Accession Number: 20181206-5239.

Comments Due: 5 p.m. ET 12/18/18.

Docket Numbers: RP19-428-000.

Applicants: Ruby Pipeline, L.L.C.

Description: eTariff filing per 1430: Ruby Form 501-G Filing to be effective N/A.

Filed Date: 12/6/18.

Accession Number: 20181206-5248.

Comments Due: 5 p.m. ET 12/18/18.

Docket Numbers: RP19-429-000.

Applicants: National Fuel Gas Supply Corporation.

Description: eTariff filing per 1430: NFGSC Form 501-G Filing to be effective N/A.

Filed Date: 12/6/18.

Accession Number: 20181206-5252.

Comments Due: 5 p.m. ET 12/18/18.

Docket Numbers: RP19-430-000.

Applicants: Cheyenne Plains Gas Pipeline Company, L.

Description: eTariff filing per 1430: Cheyenne Plains Form 501-G Filing to be effective N/A.

Filed Date: 12/6/18.

Accession Number: 20181206-5256.

Comments Due: 5 p.m. ET 12/18/18.

Docket Numbers: RP19-431-000.

Applicants: Gulf South Pipeline Company, LP.

Description: eTariff filing per 1430: FERC Form No. 501-G Filing to be effective N/A.

Filed Date: 12/6/18.

Accession Number: 20181206-5257.

Comments Due: 5 p.m. ET 12/18/18.

Docket Numbers: RP19-432-000.

Applicants: Gulf Crossing Pipeline Company LLC.

Description: eTariff filing per 1430: FERC Form No. 501-G Filing to be effective N/A.

Filed Date: 12/6/18.

Accession Number: 20181206-5258.

Comments Due: 5 p.m. ET 12/18/18.

Docket Numbers: RP19-433-000.

Applicants: KO Transmission Company.

Description: eTariff filing per 1430: Order No. 849 Compliance Filing—Form No. 501-G to be effective N/A.

Filed Date: 12/6/18.

Accession Number: 20181206-5261.

Comments Due: 5 p.m. ET 12/18/18.

Docket Numbers: RP19-434-000.

Applicants: Destin Pipeline Company, L.L.C.

Description: eTariff filing per 1430: Destin Form 501-G filing to be effective N/A.

Filed Date: 12/6/18.

Accession Number: 20181206-5262.

Comments Due: 5 p.m. ET 12/18/18.

Docket Numbers: RP19-435-000.

Applicants: Dauphin Island Gathering Partners.

Description: eTariff filing per 1430: Form 501-G to be effective N/A.

Filed Date: 12/6/18.

Accession Number: 20181206-5263.

Comments Due: 5 p.m. ET 12/18/18.

Docket Numbers: RP19-436-000.

Applicants: Venice Gathering System, L.L.C.

Description: eTariff filing per 1430: Form 501-G Filing to be effective N/A.

Filed Date: 12/6/18.

Accession Number: 20181206-5273.

Comments Due: 5 p.m. ET 12/18/18.

Docket Numbers: RP19-437-000.

Applicants: American Midstream (Midla), LLC.

Description: eTariff filing per 1430: Midla Submission of Form 501-G to be effective N/A.

Filed Date: 12/6/18.

Accession Number: 20181206-5281.

Comments Due: 5 p.m. ET 12/18/18.

Docket Numbers: RP19-438-000.

Applicants: Trans-Union Interstate Pipeline, L.P.

Description: eTariff filing per 1430: Trans-Union Form 501-G to be effective N/A.

Filed Date: 12/6/18.

Accession Number: 20181206-5288.

Comments Due: 5 p.m. ET 12/18/18.

Docket Numbers: RP19-439-000.

Applicants: Stagecoach Pipeline & Storage Company LL.

Description: eTariff filing per 1430: Stagecoach Pipeline & Storage Company LLC.—Form No. 501-G to be effective N/A.

Filed Date: 12/6/18.

Accession Number: 20181206-5289.

Comments Due: 5 p.m. ET 12/18/18.

Docket Numbers: RP19-440-000.

Applicants: Florida Southeast Connection, LLC.

Description: eTariff filing per 1430: Form 501-G to be effective N/A.

Filed Date: 12/6/18.

Accession Number: 20181206-5303.

Comments Due: 5 p.m. ET 12/18/18.

Docket Numbers: RP19-441-000.

Applicants: WTG Hugoton, LP.

Description: eTariff filing per 1430: WTG Hugoton FERC Form 501-G Filing to be effective N/A.

Filed Date: 12/6/18.

Accession Number: 20181206-5305.

Comments Due: 5 p.m. ET 12/18/18.

Docket Numbers: RP19-442-000.

Applicants: West Texas Gas, Inc.

Description: eTariff filing per 1430: West Texas Gas FERC Form 501-G Filing to be effective N/A.

Filed Date: 12/6/18.

Accession Number: 20181206-5306.

Comments Due: 5 p.m. ET 12/18/18.

Docket Numbers: RP19-443-000.

Applicants: Western Gas Interstate Company.

Description: eTariff filing per 1430: Western Gas Interstate FERC Form 501-G Filing to be effective N/A.

Filed Date: 12/6/18.

Accession Number: 20181206-5310.

Comments Due: 5 p.m. ET 12/18/18.

Docket Numbers: RP19-444-000.

Applicants: Sabal Trail Transmission, LLC.

Description: eTariff filing per 1430: Sabal Trail Form 501-G to be effective N/A.

Filed Date: 12/6/18.

Accession Number: 20181206-5321.

Comments Due: 5 p.m. ET 12/18/18.

Docket Numbers: RP19-445-000.

Applicants: Iroquois Gas Transmission System, L.P.

Description: eTariff filing per 1430: 120618 Form 501-G Filing to be effective N/A.

Filed Date: 12/6/18.

Accession Number: 20181206-5326.

Comments Due: 5 p.m. ET 12/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2018.
Nathaniel J. Davis, Sr.,
Deputy Secretary.

[FR Doc. 2018-26956 Filed 12-12-18; 8:45 am]

BILLING CODE 6717-01-P